DEPARTMENT OF HEALTH AND HUMAN SERVICES

Administration for Children and Families

Proposed Information Collection Activity; Comment Request; Proposed Projects

Title: Low Income Home Energy Assistance Program (LIHEAP) Carryover and Reallotment Report.

OMB No.: 0970-0106.

Description: The LIHEAP statute and regulations require LIHEAP grantees to report certain information to HHS concerning funds forwarded and funds subject to reallotment. The 1994 reauthorization of the LIHEAP statute, the Human Service Amendments of 1994 (Pub. L. 103-252), requires that the carryover and reallotment report for one fiscal year be submitted to HHS by the grantee before the Allotment for the next fiscal year may be awarded.

We are requesting changes in the collection of data by adding a form, the Carryover and Reallotment Report For FY 20__, for the collection of data previously requested by the Simplified Instructions for Timely Obligations of FY 20__ LIHEAP Funds and Reporting Funds for Carryover and Reallotment. The addition of the form will clarify the information being requested and ensure the submission of all the required information. Use of the form will be voluntary. It is being added in response to numerous queries each year concerning how to provide information. It will not add any additional burden on grantees. Grantees would have the option to use another format.

Respondents: State, Local or Tribal Govt.

Annual Burden Estimates
Instrument | Number of respondents | Number of responses per respondent | Average burden hours per response | Total burden hours
Carryover and Reallotment | 177 | 1 | 3 | 531
Estimated Total Annual Burden Hours: |  |  |  | 531

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 31, 2001.
Bob Sargis,
Reports Clearance Officer.

[FR Doc. 01-14180 Filed 6-5-01; 8:45 am]

BILLING CODE 4184-01-M